CONSUMER PRODUCT SAFETY COMMISSION

16 CFR Part 1500

Labeling Amendment of Blasting Caps

AGENCY: Consumer Product Safety Commission.

ACTION: Final rule.

SUMMARY: The Consumer Product Safety Commission (Commission or CPSC) is issuing a final rule to supplement the current definition of “blasting cap” in its regulations under the Federal Hazardous Substances Act. The final rule simply uses the term “detonator” in addition to the term “blasting cap” to reflect the current usage of those terms in the explosives industry.

DATES: The final rule becomes effective June 9, 2009.

FOR FURTHER INFORMATION CONTACT: Hyun Sun Kim, Office of the General Counsel, Consumer Product Safety Commission, 4330 East West Highway, Bethesda, MD 20814; telephone (301) 504-7632, e-mail hkim@cpsc.gov.

SUPPLEMENTARY INFORMATION:

A. Background

The regulations promulgated under the Federal Hazardous Substances Act (FHSA), 15 U.S.C. 1261-1276, require cautionary labeling of hazardous substances. 16 CFR part 1500. Under 16 CFR 1500.83(a)(35), individual blasting caps are exempt from bearing the statement, “Keep out of the reach of children,” or its practical equivalent, if: (i) Each cap bears conspicuously in the largest type size practicable the statement, “DANGEROUS—BLASTING CAPS—EXPLOSIVE” and; (ii) the outer carton and any accompanying printed matter bear appropriate, complete cautionary labeling.

On October 16, 2006, the Institute of Makers of Explosives (IME) petitioned the Commission to amend the regulations at 16 CFR 1500.83(a)(35), to allow the use of the term “detonator” to be used interchangeably with the term “blasting cap.” The petition was docketed as HP 07-1 and, on December 12, 2006, the Commission published a notice in the Federal Register (71 FR 74488) stating that it had received the petition and inviting public comment on the petition. No comments were received.

IME specifically requested adding the term “detonator” to the regulation as follows (added text is underlined):

Individual detonators or blasting caps are exempt from bearing the statement, “Keep out of the reach of children,” or its practical equivalent, if:

(i) Each detonator or cap bears conspicuously in the largest type size practicable the statement, “DANGEROUS—BLASTING CAPS—EXPLOSIVE” or “DANGEROUS—DETONATOR—EXPLOSIVE”;

According to IME, the terms “detonator” and “blasting cap” generally are synonymous in the explosives community. IME asserts that the term “detonator” may be interpreted as being more inclusive and is more commonly used than the term “blasting cap.” To minimize the possibility that an individual may not take recommended precautions when handling initiating devices, IME states that it has encouraged the use of the term “detonator” instead of the term “blasting cap” whenever possible. IME states that there is no practical benefit to requiring the use of both the term “detonator” and “blasting cap” on printed warnings given the limited space available on small detonators. IME does not advocate replacing the term “blasting cap” with “detonator” at this time.

The Commission believes that the technical amendment will convey useful information concerning the scope of the labeling requirements for these devises. Because the term “detonator” is used widely, including “detonator” in 16 CFR 1500.83(a)(35) will clarify that either a blasting cap or a detonator must bear conspicuously in the largest type size practicable the statement, “DANGEROUS—BLASTING CAPS—-EXPLOSIVE” or “DANGEROUS—DETONATOR—EXPLOSIVE” as applicable. The inclusion of the term detonator also will increase safety awareness by warning individuals to take precautions when handling these types of devices whether they are referred to as blasting caps or detonators. Because this amendment is technical in nature rather than substantive, notice and comment are not necessary. See 5 U.S.C. 553(b)(3)(B). Moreover, the amendment does not change the substantive obligations of manufacturers of these devises. Accordingly, there is no need to delay the effective date. Id. 553 (d)(3).

List of Subjects in 16 CFR Part 1500

Consumer protection, Hazardous materials, Hazardous substances, Imports, Infants and children, Labeling, Law enforcement, Toys.

Conclusion

For the reasons discussed the Commission amends 16 CFR 1500.83 to read as follows:

PART 1500—[AMENDED]

1. The authority citation for part 1500 continues to read as follows:

Authority: 15 U.S.C. 1261-1277.

2. Revise paragraphs (a)(35)introductory text and (a)(35)(i) of § 1500.83 to read as follows:

§ 1500.83 Exemptions for small packages, minor hazards, and special circumstances.

(a) * * *

(35) Individual detonators or blasting caps are exempt from bearing the statement, “Keep out of the reach of children,” or its practical equivalent, if:

(i) Each detonator or cap bears conspicuously in the largest type size practicable the statement, “DANGEROUS—BLASTING CAPS—EXPLOSIVE” or “DANGEROUS—DETONATOR—EXPLOSIVE”; and

* * * * *

Dated: June 3, 2009.
Todd A. Stevenson,
Secretary, Consumer Product Safety Commission.

[FR Doc. E9-13365 Filed 6-8-09; 8:45 am]

BILLING CODE 6355-01-P